DEPARTMENT OF TRANSPORTATION

Federal Railroad Administration

Petition for a Waiver of Compliance

In accordance with Title 49, Code of Federal Regulations (CFR), Sections 211.9 and 211.41, notice is hereby given that the Federal Railroad Administration (FRA) has received a request for a waiver of compliance with certain requirements of Federal railroad safety regulations. The individual petitions are described below, including the party seeking relief, the regulatory provisions involved, the nature of the relief being requested and the petitioner's arguments in favor of relief.

Atlantic & Western Railway, L.P.

(Docket Number FRA-2002-13808)

Atlantic & Western Railway, L.P., (hereafter “ATW”) is a short line railroad managed by Rail Management Corporation operating over approximately 10 miles of track in the vicinity of Sanford, North Carolina. The railroad operates with five (5) full-time employees and handles approximately 1500 cars per year. A two-person switching crew works five days a week, Monday through Friday, 8 a.m. to 5 p.m. The railroad interchanges with CSX Transportation at Sanford, North Carolina and with the Norfolk Southern Corporation at Cumnock, North Carolina.

ATW seeks to petition the Federal Railroad Administration (FRA) for a waiver from the requirements of Federal regulations on behalf of Kinder Morgan, a shipper located on the ATW line. ATW proposes to allow Kinder Morgan the use of its trackage to conduct “trans-loading” switching operations near Cumnock, North Carolina. The operation would entail movements from the Kinder Morgan facility, at approximately mile post 126.5, onto ATW trackage for a distance of approximately .25 miles each way by Kinder Morgan employees. The proposed operational limits would be controlled by Kinder Morgan and protected by the placement of stop signs and derails at each end of the limits. The method of operation on this section of track is yard limits (restricted speed not to exceed 10 mph). ATW crews would be required to stop at the stop sign and request permission from Kinder Morgan to proceed through the limits. ATW indicates it would use this track approximately once per day for interchange purposes with Norfolk Southern Corporation. Kinder Morgan plans to work two shifts per day, seven days per week, at its facility using ATW trackage occasionally.

ATW believes that relief from applicable Federal regulations will make the operations economically feasible for Kinder Morgan and more manageable for ATW's limited staff. ATW further believes that, because of its low volume of traffic and its low operating speed (10 mph), granting the waiver request will not jeopardize the safety of its employees or those of Kinder Morgan.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-13808) and must be submitted to the Docket Clerk, DOT Central Docket Management Facility, Room PL-401 (Plaza Level), 400 Seventh Street, SW., Washington, DC 20590. Communications received within 45 days of the date of this notice will be considered by FRA before final action is taken. Comments received after that date will be considered as far as practicable. All written communications concerning these proceedings are available for examination during regular business hours (9 a.m.-5 p.m.) at the above facility.

Issued in Washington DC on December 23, 2002.
Grady C. Cothen, Jr.,
Deputy Associate Administrator for Safety Standards and Program Development

[FR Doc. 02-32945 Filed 12-27-02; 8:45 am]

BILLING CODE 4910-06-P